DEPARTMENT OF ENERGY

Federal Energy Regulatory Commission

Notice of Commission and Commission Staff Attendance at Midcontinent Independent System Operator, Inc. Meetings

The Federal Energy Regulatory Commission hereby gives notice that members of the Commission and its staff may attend the following MISO-related meetings: MISO Board of Directors Meeting, December 7, 2017, 8:30 a.m.-11:00 a.m.

Unless otherwise noted, all of the meetings above will be held at: MISO Headquarters, 720 City Center Drive, Carmel, IN 46032-7574.

Further information and dial in instructions may be found at https://www.misoenergy.org. All meetings are Eastern Time.

The discussions may address matters at issue in the following proceedings:

Docket No. ER16-1766, Midcontinent Independent System Operator, Inc.

Docket No. EL16-108, Tilton Energy v. Midcontinent Independent System Operator, Inc.

Docket No. ER16-2225, Midcontinent Independent System Operator, Inc.

Docket No. ER16-2355, Midcontinent Independent System Operator, Inc.

Docket No. ER17-215, Midcontinent Independent System Operator, Inc.

Docket No. ER12-1266, Midcontinent Independent System Operator, Inc.

Docket No. ER17-67, Midcontinent Independent System Operator, Inc.

Docket No. ER17-827, Midcontinent Independent System Operator, Inc.

Docket No. ER17-305, Midcontinent Independent System Operator, Inc.

Docket No. ER17-892, Midcontinent Independent System Operator, Inc.

Docket No. ER17-156, Midcontinent Independent System Operator, Inc.

Docket No. ER16-2534, Midcontinent Independent System Operator, Inc.

Docket No. ER17-1376, Midcontinent Independent System Operator, Inc.

Docket No. ER17-1570, Midcontinent Independent System Operator, Inc.

Docket No. ER17-1571, Midcontinent Independent System Operator, Inc.

Docket No. ER17-1712, Midcontinent Independent System Operator, Inc.

Docket No. ER17-1376, Midcontinent Independent System Operator, Inc.

Docket No. ER17-2097, Midcontinent Independent System Operator, Inc.

Docket No. ER17-2113, Midcontinent Independent System Operator, Inc.

Docket No. ER17-1712, Midcontinent Independent System Operator, Inc.

Docket No. ER17-215, Midcontinent Independent System Operator, Inc.

Docket No. ER17-2220, Midcontinent Independent System Operator, Inc.

Docket No. ER17-2323, Midcontinent Independent System Operator, Inc.

Docket No. ER16-2225, Midcontinent Independent System Operator, Inc.

Docket No. ER16-2355, Midcontinent Independent System Operator, Inc.

Docket No. ER17-2552, Midcontinent Independent System Operator, Inc.

Docket No. ER18-12, Midcontinent Independent System Operator, Inc.

Docket No. ER18-23, Midcontinent Independent System Operator, Inc.

Docket No. ER18-31, Midcontinent Independent System Operator, Inc.

Docket No. ER18-39, Midcontinent Independent System Operator, Inc.

Docket No. ER18-40, Midcontinent Independent System Operator, Inc.

Docket No. ER18-41, Midcontinent Independent System Operator, Inc.

Docket No. ER18-42, Midcontinent Independent System Operator, Inc.

Docket No. ER18-44, Midcontinent Independent System Operator, Inc.

Docket No. ER17-2097, Midcontinent Independent System Operator, Inc.

Docket No. ER18-56, Midcontinent Independent System Operator, Inc.

Docket No. EL18-7, Midcontinent Independent System Operator, Inc.

Docket No. ER18-75, Midcontinent Independent System Operator, Inc.

Docket No. ER18-149, Midcontinent Independent System Operator, Inc.

Docket No. ER18-146, Midcontinent Independent System Operator, Inc.

Docket No. ER18-136, Midcontinent Independent System Operator, Inc.

Docket No. ER18-170, Midcontinent Independent System Operator, Inc.

Docket No. ER18-193, Midcontinent Independent System Operator, Inc.

Docket No. ER18-224, Midcontinent Independent System Operator, Inc.

Docket No. ER17-721, Midcontinent Independent System Operator, Inc.

These meetings are open to the public.

For more information, contact Christopher Miller, Office of Energy Market Regulation, Federal Energy Regulatory Commission at (317) 249-5936 or Christopher.miller@ferc.gov.

Dated: November 30, 2017.
Nathaniel J. Davis, Sr.,
Deputy Secretary.

[FR Doc. 2017-26245 Filed 12-5-17; 8:45 am]

BILLING CODE 6717-01-P